DEPARTMENT OF COMMERCE

National Oceanic and Atmospheric Administration

RIN 0648-XT11

Western Pacific Fishery Management Council; Public Meetings

AGENCY: National Marine Fisheries Service (NMFS), National Oceanic and Atmospheric Administration (NOAA), Commerce.

ACTION: Notice of public meeting.

SUMMARY: This notice advises the public that the Western Pacific Fishery Management Council (Council) will convene a meeting of its Advisory Panel.

DATES: The Advisory Panel meeting will be held December 15-17, 2009. For the specific time and agenda for the meeting see SUPPLEMENTARY INFORMATION.

ADDRESSES: The meeting of the Advisory Panel will be held at the Council office at 1164 Bishop Street, Suite 1400, Honolulu, HI 96813.

FOR FURTHER INFORMATION CONTACT: Kitty M. Simonds, Executive Director; telephone: (808) 522-8220.

SUPPLEMENTARY INFORMATION: The date, time and agenda for each meeting are as follows:

Tuesday, December 15, 2009, 9 a.m. - 5 p.m.

1. Welcome and Introductions

2. Review and approval of agenda

3. Reports on fishery and community issues, American Samoa, Guam, CNMI and Hawaii

4. Status of Council programs

5. New directions

a. Council process

b. Administrative initiatives

c. Leveraging Council family resources and networks

d. Other initiatives

6. Guest presentation on effects of El Nino in the Western Pacific Region

7. Breakout session on how the Advisors can help implement Council programs

a. Improving communication

b. Public engagement strategies

8. Review and discussion on breakout outcomes

Wednesday, December 16, 2009 9 a.m. - 5 p.m.

9. Hawaii Institute of Marine Biology site visit and guest presentations on (1) Using genetics and life history to track spread of introduced taape, roi and toau in Hawaii; (2) Recent advances in population resolution with examples from Hawaii; and (3) Complex population structure and management of migratory marine animals.

10. Council issues and actions

a. Catch shares

b. Annual Catch Limits

c. Collecting fishing information

i. Report on data workshop

ii. Non-commercial federal permit and reporting

iii. Voluntary data collection

d. Marine spatial planning

i. Offshore aquaculture options

ii. Hawaii bottomfish essential fish habitat and habitat of particular concern options

iii. Monuments

iv. Marine protected area policy

v. Buoys and Moorings

vi. Other

e. Community programs

i. Cooperative research

ii. Marine Education and Training

iii. Community networking

iv. Fish aggregation devices

v. Marine Conservation Plan community development project

vi. Traditional Ecological Knowledge Summit

f. Federal/agency presentations

i. Status of Western Pacific Region sea turtles

ii. Coral reef assessments

11. Breakout session to discuss fishery and program issues

a. Develop recommendations on action items as presented

b. Develop strategy and plan to further discuss issues with the public

12. Reconvene plenary

a. Review breakout outcomes

b. Summarize recommendations

c. Consider region-wide recommendations

Thursday, December 17, 2009, 9 a.m. - noon

13. Guest presentation - TBD

14. 2010 Calendar of meeting and events

a. Council meetings, workshops and events

b. Other meetings and events

15. Review and finalize outcomes

a. Recap recommendations and plans by island area

b. Consider additional actions

16. Other issues

The order in which agenda items are addressed may change. Public comment periods will be provided throughout each agenda. The Advisory Panel will meet as late as necessary to complete scheduled business.

Although non-emergency issues not contained in this agenda may come before this group for discussion, in accordance with the Magnuson-Stevens Fishery Conservation and Management Act (Magnuson-Stevens Act), those issues may not be the subject of formal action during these meetings. Actions will be restricted to those issues specifically identified in this notice and any issues arising after publication of this notice that require emergency action under Section 305(c) of the Magnuson-Stevens Act, provided the public has been notified of the Council's intent to take final action to address the emergency.

Special Accommodations

These meetings are physically accessible to people with disabilities. Requests for sign language interpretation or other auxiliary aids should be directed to Kitty M. Simonds, (808) 522-8220 (voice) or (808) 522-8226 (fax), at least 5 days prior to the meeting date.

Authority: 16 U.S.C. 1801 et seq.

Dated: November 20, 2009.
Tracey L. Thompson,
Acting Director, Office of Sustainable Fisheries, National Marine Fisheries Service.

[FR Doc. E9-28251 Filed 11-24-09; 8:45 am]

BILLING CODE 3510-22-S